DEPARTMENT OF ENERGY

Federal Energy Regulatory Commission

Combined Notice of Filings # 1

July 19, 2007.

Take notice that the Commission received the following electric rate filings:

Docket Numbers: ER00-2887-005; ER01-542-002; ER06-703-001; ER05-1218-002; ER05-1219-002; ER00-2887-005.

Applicants: STI Capital Company; Pedricktown Cogeneration Company, LP; Camden Plant Holding, L.L.C.; Bayonne Plant Holding, LLC; Newark Bay Cogeneration Partnership, L.P.

Description: STI Capital Company et al submit a notice of non-material change in status in compliance with reporting requirements adopted by FERC in Order 652.

Filed Date: 07/16/2007.

Accession Number: 20070718-0153.

Comment Date: 5 p.m. Eastern Time on Monday, August 06, 2007.

Docket Numbers: ER03-1284-004; ER05-1202-003; ER05-1262-008; ER06-1093-004; ER07-407-002; ER06-1122-001; ER07-522-001; ER07-342-001.

Applicants: Blue Canyon Windpower, LLC; Blue Canyon Windpower II LLC; Flat Rock Windpower LLC; Flat Rock Windpower II LLC; High Prairie Wind Farm II, LLC; High Trail Wind Farm, LLC; Old Trial Wind Farm, LLC; Telocast Wind Power Partners, LLC.

Description: Notice of Change in Status of EDP—Energias De Portugal, S.A.

Filed Date: 07/17/2007.

Accession Number: 20070717-5044.

Comment Date: 5 p.m. Eastern Time on Tuesday, August 07, 2007.

Docket Numbers: ER05-69-003.

Applicants: Boston Edison Company.

Description: NSTAR Electric Company submits its annual informational report for the Commission updating the FERC on the status of the its long-term transmission projects and providing certain accounting information etc.

Filed Date: 07/16/2007.

Accession Number: 20070717-0180.

Comment Date: 5 p.m. Eastern Time on Monday, August 06, 2007.

Docket Numbers: ER07-371-003.

Applicants: Southwest Power Pool, Inc.

Description: Southwest Power Pool, Inc. submits its compliance filing containing modifications to Schedule 2 to its Open Access Transmission Tariff which provides for compensation of generators.

Filed Date: 07/16/2007.

Accession Number: 20070718-0152.

Comment Date: 5 p.m. Eastern Time on Monday, August 06, 2007.

Docket Numbers: ER07-478-003.

Applicants: Midwest Independent Transmission System.

Description: Midwest Independent Transmission System Operator, Inc. submits proposed revisions to its Open Access Transmission and Energy Markets Tariff to comply with the 60-day compliance filing directives.

Filed Date: 07/16/2007.

Accession Number: 20070718-0116.

Comment Date: 5 p.m. Eastern Time on Monday, August 06, 2007.

Docket Numbers: ER07-762-001.

Applicants: Illinois Power Company.

Description: Illinois Power Company's response to Questions 1-4, 7 and 11 posed in FERC's letter dated 6/15/07.

Filed Date: 07/16/2007.

Accession Number: 20070718-0120.

Comment Date: 5 p.m. Eastern Time on Monday, August 06, 2007.

Docket Numbers: ER07-993-001.

Applicants: Midwest Independent Transmission System.

Description: Midwest Independent Transmission System Operator, Inc. re-submits a clean coversheet and the redlined coversheet of the Fifth Revised Amended Interconnection Agreement.

Filed Date: 07/16/2007.

Accession Number: 20070718-0117.

Comment Date: 5 p.m. Eastern Time on Monday, August 06, 2007.

Docket Numbers: ER07-1102-001.

Applicants: PJM Interconnection, LLC.

Description: PJM Interconnection LLC submits an amendment to its 6/29/07 filing and two substitute Network Integration Transmission Service Agreement under PJM Open Access Transmission Tariff.

Filed Date: 07/16/2007.

Accession Number: 20070718-0151.

Comment Date: 5 p.m. Eastern Time on Monday, August 06, 2007.

Docket Numbers: ER07-1105-001.

Applicants: Cedar Creek Wind Energy, LLC.

Description: Cedar Creek Wind Energy, LLC notifies FERC of a non-material error in the application for authority to make wholesale sales of energy, capacity and ancillary services.

Filed Date: 07/16/2007.

Accession Number: 20070718-0121.

Comment Date: 5 p.m. Eastern Time on Monday, August 06, 2007.

Docket Numbers: ER07-1150-000.

Applicants: Dynegy South Bay, LLC.

Description: Dynegy South Bay, LLC submits First Revised Sheet 131 to its Reliability Must-Run Agreement w/ California Independent System Operator Corporation to correct a typographical error.

Filed Date: 07/17/2007.

Accession Number: 20070718-0118.

Comment Date: 5 p.m. Eastern Time on Tuesday, August 07, 2007.

Docket Numbers: ER07-1151-000.

Applicants: NSTAR Electric Company.

Description: NSTAR Electric Company submits a Wholesale Distribution Service Agreement for service to its affiliate, MATEP LLC.

Filed Date: 07/17/2007.

Accession Number: 20070718-0119.

Comment Date: 5 p.m. Eastern Time on Tuesday, August 7, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-14726 Filed 7-30-07; 8:45 am]

BILLING CODE 6717-01-P